TENNESSEE VALLEY AUTHORITY

Sunshine Act Meeting

AGENCY HOLDING THE MEETING: Tennessee Valley Authority (Meeting No. 1552).

TIME AND DATE: 9 a.m. (EDT), July 21, 2004, Rose Center, Prater Hall, 442 West Second North Street, Morristown, Tennessee.

STATUS: Open.

Agenda

Approval of minutes of meeting held on May 19, 2004.

New Business

B—Purchase Awards

B1. Contract with Automotive Resources, Inc. for fleet maintenance services for TVA's light fleet.

B2. Blanket agreement with Facilities Technologies Alliance for telecommunication/electrical services.

C—Energy

C1. Supplement to TVA Contract No. 4366 with PSC Safety & Health Services, Inc., for industrial hygiene services.

C2. Contracts with A. P. Services, Inc., Signal Industrial Products Corporation, and Jesco Supply, Inc., for purchase of gaskets, packing, and related materials.

C3. Contracts with Burns & McDonnell Engineering Company, Inc.; Mesa Associates, Inc.; Parsons Energy & Chemical Group, Inc.; Sargent & Lundy, LLC; and Washington Group International, Inc., for managed-task engineering services to support the requirements of TVA's power system operations.

C4. Contracts with PSC Industrial Outsourcing, Inc. (Philip Services Corporation); Meylan Enterprises, Inc.; Onyx Industrial Services, Inc.; Pressure's On, Inc.; and MPW Industrial Services, Inc., for hydroblasting services at any TVA location.

E—Real Property Transactions

E1. Grant of a permanent easement to the state of Tennessee for a highway and bridge improvement project, without charge, except for TVA's administrative costs, affecting approximately 1.2 acres of land on Nolichucky Dam Reservation in Greene County, Tennessee, Tract No. XTNOR-6H.

E2. Sale of a permanent easement to Jerry Wilburn and Johnny Crane for an access road, affecting approximately 3.43 acres of land at TVA's State Line Mississippi Substation, Tract No. XSLMSS-1AR, in exchange for approximately 2.01 acres, Tract No. SLMSS-3, in Itawamba County, Mississippi.

E3. Grant of a 40-year term commercial recreation easement to the Eastern Band of Cherokee Indians, affecting approximately 40 acres of land on Tellico Reservoir in Monroe County, Tennessee, Tract No. XTTELR-43RE.

E4. Grant of a 30-year term public recreation easement, with conditional options for renewals, to Blount County, Tennessee, affecting approximately 18.6 acres of land on Fort Loudoun Reservoir in Blount County, Tennessee, Tract No. XTFL-129RE.

E5. Land use allocation change to the 2001 Guntersville Reservoir Land Management Plan, without charge, affecting approximately 191.5 acres of land surrounding Goose Pond Island from Industrial/Commercial and Sensitive Resource Management to Residential Access, TVA Project Operations, and Developed Recreation on Guntersville Reservoir, Tracts Nos. XGR-108PT2, XGR-109PT2, and XGR-110PT2, in Jackson County, Alabama, and delegation of authority to the President and Chief Operating Officer or the Executive Vice President, River System Operations and Environment, to approve future requests to change land allocations on Goose Pond Island.

E6. Sale at public auction of approximately 4.4 acres of land on Guntersville Reservoir in Marshall County, Alabama, Tract No. XGR-759.

F—Other

F1. Approval to file a condemnation case to acquire a temporary right to enter to survey, appraise, and perform title investigations and related activities for a TVA power transmission line project affecting the Pickwick-South Jackson Tap to East Savannah Transmission Line in Hardin County, Tennessee, Tract No. PSTES-1000TE.

Information Items

1. Approval of a delegation of authority to the President and Chief Operating Officer, or a designee, to approve and implement Memorandums of Agreement for the funding of certain rehabilitation work on Cumberland hydroelectric projects of the United States Army Corps of Engineers.

2. Approval of a public auction sale of approximately 30.3 acres of land for a water treatment plant on Guntersville Reservoir in Jackson County, Alabama, Tract No. XGR-760.

3. Approval of abandonment of certain easement rights affecting approximately 6.9 acres of land on Watts Bar Reservoir in Roane County, Tennessee, Tract No. WBR-1074F, S.1X.

4. Approval of the designation and selection of The Boston Company Asset Management, LLC, as a new investment manager for the TVA Retirement System and approval of the investment management agreement between the Retirement System and the new investment manager.

5. Approval of temporary Variable Price Interruptible energy price reduction.

6. Approval of revised arrangements with Arnold Engineering Development Center under the Time-of-Use Blended Pricing Program.

FOR FURTHER INFORMATION: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 14, 2004.
Maureen H. Dunn,
General Counsel and Secretary.

[FR Doc. 04-16408 Filed 7-15-04; 9:48 am]

BILLING CODE 8120-08-P